DEPARTMENT OF STATE

[Public Notice 5753]

Shipping Coordinating Committee; Notice of Meeting

The Shipping Coordinating Committee (SHC) will conduct an open meeting at 10 a.m. on Monday, May 7, 2007, in Room 1422 of the United States Coast Guard Headquarters Building, 2100 2nd Street SW., Washington, DC 20593-0001. The purpose of this meeting is to prepare for the International Maritime Organization (IMO) International Conference on the Removal of Wrecks, 2007, scheduled from 14-18 May 2007 in Nairobi, Kenya.

The provisional agenda calls for the Conference to consider a draft convention on the removal of wrecks, the text of which has been prepared by the IMO Legal Committee, and any draft Conference resolutions. The agenda also calls for the adoption of the Final Act and any instruments, recommendations and resolutions resulting from the work of the Conference as well as signature of the Final Act.

Members of the public are invited to attend the SHC meeting up to the seating capacity of the room. To facilitate the building security process, those who plan to attend should call or send an e-mail two days before the meeting. Upon request, participating by phone may be an option. For further information please contact Captain Chuck Michel or Lieutenant Commander Laurina Spolidoro, at U.S. Coast Guard, Office of Maritime and International Law (CG-0941), 2100 Second Street, SW., Washington, DC 20593-0001; e-mail Laurina.M.Spolidoro@uscg.mil, telephone (202) 372-3794; fax (202) 372-3972.

Dated: April 3, 2007.
Michael E. Tousley,
Executive Secretary, Shipping Coordinating Committee, Department of State.

[FR Doc. E7-6865 Filed 4-10-07; 8:45 am]

BILLING CODE 4710-09-P